DEPARTMENT OF DEFENSE

Department of the Air Force

Notice of Record of Decision for the Environmental Impact Statement for Authorizing Changes to the Falcon Launch Program at Vandenberg Space Force Base, California

AGENCY: Department of the Air Force.

ACTION: Notice of Record of Decision.

SUMMARY: On October 10, 2025, the Department of the Air Force (DAF) signed the Record of Decision (ROD) for the Environmental Impact Statement for Authorizing Changes to the Falcon Launch Program at Vandenberg Space Force Base (VSFB), CA.

FOR FURTHER INFORMATION CONTACT: Ms. Hilary Rummel, NEPA Project Manager, by email at hilary.rummel.ctr@us.af.mil or VSFB Public Affairs office by phone at 1-805-606-3595.

SUPPLEMENTARY INFORMATION: The DAF has decided to increase the annual Falcon launch cadence at VSFB through launch and landing operations at SLC-4 and SLC-6, including modification of SLC-6 for Falcon 9 and Falcon Heavy launch vehicles to support future U.S. Government and commercial launch service needs. The overall launch cadence will increase from 50 Falcon 9 launches per year at SLC-4 to up to 100 launches per year for Falcon 9 and Falcon Heavy at both SLCs combined. Falcon Heavy, which has not previously launched from VSFB, would launch and land up to five times per year from and at SLC-6. The DAF will authorize SpaceX to construct a new hangar south of the HIF and north of SLC-6 to support Falcon 9 and Falcon Heavy integration and processing.

The DAF decision documented in the ROD was based on matters discussed in the Final Environmental Impact Statement, inputs from the public and regulatory agencies, and other relevant factors. The Final Environmental Impact Statement was made available to the public on October 14, 2025 through the project website (www.vsfbfalconlauncheis.com), and a Notice of Availability was published in the Federal Register (Volume 90, Number 223, Page 52660) on November 21, 2025.

Authority: 42 U.S.C. 4321, et seq. and Department of Defense National Environmental Policy Act Implementing Procedures.

Crystle C. Poge,
Air Force Federal Register Liaison Officer.

[FR Doc. 2025-22193 Filed 12-5-25; 8:45 am]

BILLING CODE 3911-44-P